DEPARTMENT OF ENERGY

Federal Energy Regulatory Commission

[Docket No. EG00-172-000, et al.]

CPV Gulfcoast, L.P., et al.; Electric Rate and Corporate Regulation Filings

June 19, 2000.

Take notice that the following filings have been made with the Commission:

1. CPV Gulfcoast, L.P.

[Docket No. EG00-172-000]

Take notice that on June 15, 2000, CPV Gulfcoast, L.P. (Applicant), c/o Competitive Power Ventures, L.P., 4061 Power Mill Road, Suite 700, Calverton, MD 20705, filed with the Federal Energy Regulatory Commission (Commission) an application for determination of exempt wholesale generator status pursuant to Part 365 of the Commission's regulations.

Applicant, a Florida limited partnership, is a special purpose entity established to develop, construct, own and operate a nominally rated 250 MW natural gas fired combined cycle generating facility (Facility) to be located in Piney Point, Manatee County, Florida. The Facility will consist of two (2) F class combustion turbines, two (2) heat recovery steam generators and a single steam turbine. The Facility as currently configured will include certain transmission interconnection facilities necessary to effect the sale of electric energy at wholesale and interconnect the Facility to the transmission grid. All of the electricity generated by the Facility will be sold exclusively at wholesale.

Comment date: July 10, 2000, in accordance with Standard Paragraph E at the end of this notice. The Commission will limit its consideration of comments to those that concern the adequacy or accuracy of the application.

2. Entergy Nuclear New York Investment Company I

[Docket No. EG00-173-000]

Take notice that on June 14, 2000, Entergy Nuclear New York Investment Company I, c/o RL&F Service Corp., One Rodney Square, 10th Floor, Tenth & King Street, Wilmington, DE, filed with the Federal Energy Regulatory Commission an application for determination of exempt wholesale generator status pursuant to Part 365 of the Commission's regulations. The applicant is a corporation that will engage directly or indirectly and exclusively in the business of owning and/or operating eligible facilities in the United States and selling electric energy at wholesale. The applicant proposes to own indirectly a 50 percent interest in the James A. FitzPatrick Nuclear Power Plant and a 50 percent interest in the Indian Point Nuclear Generating Unit No. 3. The applicant seeks a determination of its exempt wholesale generator status. All electric energy sold by the applicant will be sold exclusively at wholesale.

Comment date: July 10, 2000, in accordance with Standard Paragraph E at the end of this notice. The Commission will limit its consideration of comments to those that concern the adequacy or accuracy of the application.

3. Entergy Nuclear FitzPatrick, LLC

[Docket No. EG00-174-000]

Take notice that on June 14, 2000, Entergy Nuclear FitzPatrick, LLC, 268 Lake Road East, Lycoming, NY 13093, filed with the Federal Energy Regulatory Commission an application for determination of exempt wholesale generator status pursuant to Part 365 of the Commission's regulations. The applicant is a limited liability company that will engage directly or indirectly and exclusively in the business of owning and/or operating eligible facilities in the United States and selling electric energy at wholesale. The applicant proposes to own in its entirety the James A. FitzPatrick Nuclear Power Plant. The applicant seeks a determination of its exempt wholesale generator status. All electric energy sold by the applicant will be sold exclusively at wholesale.

Comment date: July 10, 2000, in accordance with Standard Paragraph E at the end of this notice. The Commission will limit its consideration of comments to those that concern the adequacy or accuracy of the application.

4. Entergy Nuclear Indian Point 3, LLC

[Docket No. EG00-175-000]

Take notice that on June 14, 2000, Entergy Nuclear Indian Point 3, LLC, Bleakley Avenue and Broadway, Buchanan, NY 10551, filed with the Federal Energy Regulatory Commission an application for determination of exempt wholesale generator status pursuant to Part 365 of the Commission's regulations. The applicant is a limited liability company that will engage directly or indirectly and exclusively in the business of owning and/or operating eligible facilities in the United States and selling electric energy at wholesale. The applicant proposes to own in its entirety the Indian Point Nuclear Generating Unit No. 3. The applicant seeks a determination of its exempt wholesale generator status. All electric energy sold by the applicant will be sold exclusively at wholesale.

Comment date: July 10, 2000, in accordance with Standard Paragraph E at the end of this notice. The commission will limit its consideration of comments to those that concern the adequacy or accuracy of the application.

5. Entergy Nuclear New York Investment Company II

[Docket No. EG00-176-000]

Take notice that on June 14, 2000, Entergy Nuclear New York Investment Company II, c/o RL&F Service Corp., One Rodney Square, 10th Floor, Tenth & King Street, Wilmington, DE, filed with the Federal Energy Regulatory Commission an application for determination of exempt wholesale generator status pursuant to Part 365 of the Commission's regulations. The applicant is a corporation that will engage directly or indirectly and exclusively in the business of owning and/or operating eligible facilities in the United States and selling electric energy at wholesale. The applicant proposes to own indirectly a 50 percent interest in the James A. FitzPatrick Nuclear Power Plant and a 50 percent interest in the Indian Point Nuclear Generating Unit No. 3. The applicant seeks a determination of its exempt wholesale generator status. All electric energy sold by the applicant will be sold exclusively at wholesale.

Comment date: July 10, 2000, in accordance with Standard Paragraph E at the end of this notice. The Commission will limit its consideration of comments to those that concern the adequacy or accuracy of the application.

6. Northeast Utilities Services Company

[Docket No. ER00-2471-001]

Take notice that on May 14, 2000, Northeast Utilities Service Company (NUSCO), on behalf of its affiliate, The Connecticut Light and Power Company (CL&P), tendered unredacted copies of a certain Termination, Release and Settlement Agreement by and between Connecticut Yankee Atomic Power Company, CL&P and the Connecticut Municipal Electric Energy Cooperative (CMEEC), which had earlier been filed in redacted form in support of its Notice of Cancellation of the Federal Energy Regulatory Commission (FERC) rate schedules and supplements thereto for Unit Contract Connecticut Yankee, Rate Schedule FERC No. CL&P 225, filed on May 9, 2000.

Copies of the supplemental filing were served upon the jurisdictional customer, CMEEC, as well as upon CL&P and the Connecticut Department of Public Utilities Control.

Comment date: July 6, 2000, in accordance with Standard Paragraph E at the end of this notice.

7. Mississippi Power Company and Southern Company Services, Inc.

[Docket No. ER00-2824-000]

Take notice that on June 14, 2000, Mississippi Power Company and Southern Company Services, Inc., its agent, tendered for filing a Service Agreement, pursuant to the Southern Companies Electric Tariff Volume No. 4—Market Based Rate Tariff, with South Mississippi Electric Power Association for the Necaise Delivery Point to Coast Electric Power Association. The agreement will permit Mississippi Power to provide wholesale electric service to South Mississippi Electric Power Association at a new service delivery point.

Copies of the filing were served upon South Mississippi Electric Power Association, the Mississippi Public Service Commission, and the Mississippi Public Utilities Staff.

Comment date: July 5, 2000, in accordance with Standard Paragraph E at the end of this notice.

8. PacifiCorp

[Docket No. ER00-2825-000]

Take notice that on June 14, 2000, PacifiCorp, tendered for filing in accordance with 18 CFR 35 of the Commission's Rules and Regulations, a revised Long-term Firm Point-to-Point Transmission Service Agreement British Columbia Power Exchange Corporation (Powerex) under PacifiCorp's FERC Electric Tariff, First Revised Volume No. 11 (Tariff).

Copies of this filing were supplied to the Washington Utilities and Transportation Commission and the Public Utility Commission of Oregon.

Comment date: July 5, 2000, in accordance with Standard Paragraph E at the end of this notice.

9. MidAmerican Energy Company

[Docket No. ER00-2826-000]

Take notice that on June 14, 2000, MidAmerican Energy Company (MidAmerican), 666 Grand Avenue, 2900 Ruan Center, Des Moines, Iowa 50309 tendered for filing proposed changes to its Open Access Transmission Tariff (OATT). The changes are for the purpose of updating the Index of Point-to-Point Transmission Service Customers and the Index of Network Integration Transmission Service Customers.

MidAmerican proposes that the rate schedule changes become effective on June 15, 2000 and requests a waiver of the Commissions notice requirements.

The proposed rate schedule changes have been mailed to all Transmission Customers having service agreements under the OATT, the Iowa Utilities Board and the Illinois Commission, the South Dakota Public Service Commission.

Comment date: July 5, 2000, in accordance with Standard Paragraph E at the end of this notice.

10. MidAmerican Energy Company

[Docket No. ER00-2827-000]

Take notice that on June 14, 2000, MidAmerican Energy Company (MidAmerican), 666 Grand Avenue, Des Moines, Iowa 50309, filed with the Commission a Firm Transmission Service Agreement with Wisconsin Public Power Inc. (Wisconsin Public), dated May 22, 2000, and a Non-Firm Transmission Service Agreements with Wisconsin Public, dated May 22, 2000, and Alliant Energy Corporate Services, Inc. (Alliant), dated June 1, 2000, entered into pursuant to MidAmerican's Open Access Transmission Tariff.

MidAmerican requests an effective date of May 22, 2000 for the Agreements with Wisconsin Public and June 1, 2000 for the Agreement with Alliant, and accordingly seeks a waiver of the Commission's notice requirement.

MidAmerican has served a copy of the filing on Wisconsin Public, Alliant, the Iowa Utilities Board, the Illinois Commerce Commission and the South Dakota Public Utilities Commission.

Comment date: July 5, 2000, in accordance with Standard Paragraph E at the end of this notice.

11. Ameren Services Company

[Docket No. ER00-2829-000]

Take notice that on June 14, 2000, Ameren Services Company (ASC), tendered for filing a Service Agreement for Market Based Rate Power Sales between ASC and Enron Power Marketing, Inc., (Enron). ASC asserts that the purpose of the Agreement is to permit ASC to make sales of capacity and energy at market based rates to Enron pursuant to ASC's Market Based Rate Power Sales Tariff filed in Docket No. ER98-3285-000.

Comment date: July 5, 2000, in accordance with Standard Paragraph E at the end of this notice.

12. Southern Company Services, Inc.

[Docket No. ER00-2830-000]

Take notice that on June 14, 2000, Southern Company Services, Inc. (SCS), acting on behalf of Alabama Power Company, Georgia Power Company, Gulf Power Company, Mississippi Power Company, and Savannah Electric and Power Company (collectively referred to as Southern Companies), tendered for filing one (1) service agreement for network integration transmission service between Southern Companies and Southern Wholesale Energy (a department of SCS), as agent for MPC, and one (1) service agreement for long term firm point-to-point transmission service between Southern Companies and Williams Energy Marketing & Trading Company under the Open Access Transmission Tariff of Southern Companies (FERC Electric Tariff, Original Volume No. 5).

Comment date: July 5, 2000, in accordance with Standard Paragraph E at the end of this notice.

13. PacifiCorp

[Docket No. ER00-2831-000]

Take notice that on June 14, 2000, PacifiCorp, tendered for filing in accordance with 18 CFR 35 of the Commission's Rules and Regulations, a Notice of Filing Mutual Netting/Closeout Agreements (Netting Agreements) between PacifiCorp and (1) PPL Montana, LLC (PPL Montana), (2) Southwestern Public Service Company (Southwestern), and (3) UtiliCorp United Inc., (UtiliCorp).

Copies of this filing were supplied to the Washington Utilities and Transportation Commission and the Public Utility Commission of Oregon.

Comment date: July 5, 2000, in accordance with Standard Paragraph E at the end of this notice.

14. PacifiCorp

[Docket No. ER00-2832-000]

Take notice that on June 14, 2000, PacifiCorp tendered for filing in accordance with 18 CFR 35 of the Commission's Rules and Regulations, umbrella Transmission Service Agreements with El Paso Merchant Energy, LP (El Paso) under PacifiCorp's FERC Electric Tariff, First Revised Volume No. 11 (Tariff).

Copies of this filing were supplied to the Washington Utilities and Transportation Commission and the Public Utility Commission of Oregon.

Comment date: July 5, 2000, in accordance with Standard Paragraph E at the end of this notice.

15. Great Bay Power Corporation

[Docket No. ER00-2834-000]

Take notice that on June 14, 2000, Great Bay Power Corporation (Great Bay), tendered for filing a service agreement between WPS Energy Services, Inc. and Great Bay for service under Great Bay's revised Market-Based Rate Power Sales Tariff (Tariff). This Tariff was accepted for filing by the Commission on May 31, 2000, in Docket No. ER00-2211-000.

The service agreement is proposed to be effective June 1, 2000.

Comment date: July 5, 2000, in accordance with Standard Paragraph E at the end of this notice.

16. Central Power and Light Company

[Docket No. ER00-2835-000]

Take notice that on June 14, 2000, Central Power and Light Company (CPL), tendered for filing an Interconnection Agreement between CPL and Medina Electric Cooperative, Inc. (Medina).

CPL requests an effective date for the Interconnection Agreement of June 15, 2000. Accordingly, CPL requests waiver of the Commission's notice requirements.

CPL states that a copy of the filing was served on Medina, South Texas Electric Cooperative, Inc., and the Public Utility Commission of Texas.

Comment date: July 5, 2000, in accordance with Standard Paragraph E at the end of this notice.

17. Commonwealth Edison Company

[Docket No. ER00-2836-000]

Take notice that on June 14, 2000, Commonwealth Edison Company (ComEd) tendered for filing a MBR Sales Agreement establishing NewEnergy Midwest, LLC, as a customer under ComEd's FERC Electric Market Based-Rate Schedule for power sales.

ComEd requests an effective date of May 16, 2000 for the agreement and accordingly seeks waiver of the Commission's notice requirements.

Copies of the filing were served on NewEnergy Midwest LLC.

Comment date: July 5, 2000, in accordance with Standard Paragraph E at the end of this notice.

18. Commonwealth Edison Company

[Docket No. ER00-2837-000]

Take notice that on June 14, 2000, Commonwealth Edison Company (ComEd), tendered for filing Amendment No. 1 (Amendment), to the Network Service Agreement dated December 10, 1999 (NSA) between ComEd and Nicor Energy, L.L.C. (Nicor), and Amendment No. 1 (Amendment), to the Network Service Agreement dated November 1, 1999 (NSA) between ComEd and Central Illinois Light Company (CILCO). The Amendments extend the termination dates of the NSAs previously filed on December 22, 1999 in Docket No. ER00-884 between ComEd and Nicor; and on November 22, 1999 in Docket No. ER00-622 between ComEd and CILCO. The NSAs govern ComEd's provision of network service to serve retail load under the terms of ComEd's Open Access Transmission Tariff (OATT).

ComEd requests an effective date of May 15, 2000 for the NSAs, and therefore ComEd seeks waiver of the Commission's notice requirements.

Copies of this filing were served on Nicor and CILCO.

Comment date: July 5, 2000, in accordance with Standard Paragraph E at the end of this notice.

19. Wisconsin Electric Power Company

[Docket No. ER00-2838-000]

Take notice that on June 14, 2000, Wisconsin Electric Power Company tendered for filing an amendment to its FERC Electric Tariff No. 1, Wholesale Power Service—Schedule W. The amendment provides that as of June 15, 2000 Wisconsin Electric will not accept any new bundled wholesale power customers and that unbundled transmission service is terminated.

Comment date: July 5, 2000, in accordance with Standard Paragraph E at the end of this notice.

20. Virginia Electric and Power Company

[Docket No. ER00-2839-000]

Take notice that on June 14, 2000, Virginia Electric and Power Company (Virginia Power), tendered for filing a market-based rate tariff, including a form of umbrella service agreement and code of conduct. The proposed market-based rate tariff does not replace Virginia Power's existing market-based rate tariff, FERC Electric Tariff, Volume No. 4.

Virginia Power requests waiver of the Commission's notice of filing requirements to allow the proposed market-based rate tariff to become effective on June 15, 2000, the day after filing.

Copies of the filing were served upon Virginia Power's customers under its existing market-based rate tariff and the Virginia State Corporation Commission.

Comment date: July 5, 2000, in accordance with Standard Paragraph E at the end of this notice.

21. Commonwealth Edison Company

[Docket No. ER00-2851-000]

Take notice that on June 14, 2000, Commonwealth Edison Company (ComEd), tendered for filing an executed service agreement for NewEnergy Midwest, LLC, under ComEd's FERC Electric Market Based-Rate Schedule for power sales.

ComEd requests and effective date of May 16, 2000 for the service agreements and accordingly seeks waiver of the Commission's notice requirements.

Copies of this filing were served on NewEnergy.

Comment date: July 5, 2000, in accordance with Standard Paragraph E at the end of this notice.

22. PacifiCorp

[Docket No. ER00-2833-000]

Take notice that on June 14, 2000, PacifiCorp, tendered for filing in accordance with 18 CFR 35 of the Commission's Rules and Regulations, a Long-term Firm Point-to-Point Transmission Service Agreement with the State of South Dakota (South Dakota) under PacifiCorp's FERC Electric Tariff, First Revised Volume No. 11 (Tariff).

Copies of this filing were supplied to the Washington Utilities and Transportation Commission and the Public Utility Commission of Oregon.

Comment date: July 5, 2000, in accordance with Standard Paragraph E at the end of this notice.

Standard Paragraphs

E. Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-16011 Filed 6-23-00; 8:45 am]

BILLING CODE 6717-01-P